DEPARTMENT OF COMMERCE

National Oceanic and Atmospheric Administration

[RTID 0648-XB019]

Atlantic Highly Migratory Species; Meeting of the Atlantic Highly Migratory Species Advisory Panel; Recreational Roundtable and Large Pelagics Survey Workshop

AGENCY: National Marine Fisheries Service (NMFS), National Oceanic and Atmospheric Administration (NOAA), Commerce.

ACTION: Notice of public webinars/conference calls.

SUMMARY: NMFS will hold a 3-day Atlantic Highly Migratory Species (HMS) Advisory Panel (AP) meeting and a 1-day Recreational Roundtable/Large Pelagics Survey (LPS) Workshop via webinar in May 2021. The intent of the HMS AP meeting is to consider options for the conservation and management of Atlantic HMS. The intent of the Recreational Roundtable/LPS Workshop is to discuss HMS recreational fishing issues and to inform the public about, and field questions regarding, the LPS relative to HMS. The meetings are open to the public.

DATES: The AP meeting and webinar will be held from 8:45 a.m. to 3:45 p.m. on Tuesday, May 25; from 8:45 a.m. to 3:30 p.m. on Wednesday, May 26; and from 8:45 a.m. to 2:30 p.m. on Thursday, May 27. The Recreational Roundtable/LPS Workshop will be held from 9 a.m. to 3:30 p.m. on Friday, May 28.

ADDRESSES: The meetings will be accessible via conference call and webinar. Conference call and webinar access information are available at: https://www.fisheries.noaa.gov/event/may-2021-hms-advisory-panel-meeting.

Participants are strongly encouraged to log/dial in 15 minutes prior to the meeting. NMFS will show the presentations via webinar and allow public comment during identified times on the agenda.

FOR FURTHER INFORMATION CONTACT: Peter Cooper at (301) 427-8503 or Peter.Cooper@noaa.gov.

SUPPLEMENTARY INFORMATION: The Magnuson-Stevens Fishery Conservation and Management Act requires the establishment of an AP for each Fishery Management Plan (FMP) for Atlantic HMS, i.e., tunas, swordfish, billfish, and sharks. 16 U.S.C. 1854(g)(1)(A)-(B). Since the inception of the AP in 1998, NMFS has consulted with and considered the comments and views of AP members when preparing and implementing Atlantic HMS FMPs or FMP amendments.

The intent of these meetings is to consider potential alternatives for the conservation and management of Atlantic tunas, swordfish, billfish, and shark fisheries, and discuss HMS recreational fishing and LPS issues. We anticipate discussing:

• Bluefin tuna fisheries management, including Draft Amendment 13, restricted-fishing days for the General category fishery and Charter/Headboat-permitted vessels when fishing commercially, application of Federal regulations within state waters under the Atlantic Tunas Convention Act, particularly with regard to a request by the State of Maine, and language in the 2021 Appropriations Act Joint Explanatory Statement directing NMFS to reconsider the decision to open the former Gulf of Mexico Gear Restricted Area to pelagic longline fishing (Spring Gulf of Mexico Monitoring Area);

• Review of the Atlantic shark fishery and shark depredation issues;

• Introduction to HMS best scientific information available (BSIA) framework draft document development;

• Electronic Technologies and Electronic Monitoring updates;

• Upcoming workshop to review LPS methods and design; and

• HMS recreational fishing listening session.

Additional information on the meetings and a copy of the draft agenda will be posted prior to the meeting at: https://www.fisheries.noaa.gov/event/may-2021-hms-advisory-panel-meeting.

Dated: April 16, 2021.
Kelly Denit,
Director, Office of Sustainable Fisheries, National Marine Fisheries Service.

[FR Doc. 2021-08308 Filed 4-21-21; 8:45 am]

BILLING CODE 3510-22-P